NATIONAL SCIENCE FOUNDATION

Advisory Committee for Biological Sciences; Notice of Meeting

In accordance with the Federal Advisory Committee Act (Pub. L. 92-463, as amended), the National Science Foundation announces the following meeting:

Name: Advisory Committee for Biological Sciences (1110).

Date and Time: April 20, 2006; 9 a.m.-5 p.m., April 21, 2006; 9 a.m.-3 p.m.

Place: Hilton Arlington Hotel, 950 North Stafford Street, Arlington, VA 22230.

Type of Meeting: Open.

Contact Person: Dr. James P. Collins, Assistant Director, Biological Sciences, Room 605, National Science Foundation, 4201 Wilson Blvd., Arlington, VA 22230 Tel No.: (703) 292-8400.

Minutes: May be obtained from the contact person listed above.

Purpose of Meeting: The Advisory Committee for BIO provides advice, recommendations, and oversight concerning major program emphases, directions, and goals for the research-related activities of the divisions that make up BIO.

Agenda: Joint Session with the Directorate for Social Behavioral and Economic Sciences (SBE) Planning and Issues Discussion:

• BIO Status and FY 07 Budget.

• NEON Update.

• NSF Strategic Plan.

Dated: March 1, 2006.
Susanne Bolton,
Committee Management Officer.

[FR Doc. 06-2078 Filed 3-3-06; 8:45 am]

BILLING CODE 7555-01-M